DEPARTMENT OF VETERANS AFFAIRS

[OMB Control No. 2900-0393]

Agency Information Collection Activities Under OMB Review

AGENCY: Office of Acquisition and Materiel Management, Department of Veterans Affairs.

ACTION: Notice.

SUMMARY: In compliance with the Paperwork Reduction Act (PRA) of 1995 (44 U.S.C., 3501 et seq.), this notice announces that the Office of Acquisition and Materiel Management, Department of Veterans Affairs, has submitted the collection of information abstracted below to the Office of Management and Budget (OMB) for review and comment. The PRA submission describes the nature of the information collection and its expected cost and burden; it includes the actual data collection instrument.

DATES: Comments must be submitted on or before December 24, 2001.

FOR FURTHER INFORMATION OR A COPY OF THE SUBMISSION CONTACT: Denise McLamb, Information Management Service (045A4), Department of Veterans Affairs, 810 Vermont Avenue, NW., Washington, DC 20420, (202) 273-8030 or FAX (202) 273-5981 or e-mail to: denise.mclamb@mail.va.gov. Please refer to “OMB Control No. 2900-0393” in any correspondence.

SUPPLEMENTARY INFORMATION: Title: Veterans Affairs Acquisition Regulation (VAAR) part 813—Simplified Acquisition Procedures.

OMB Control Number: 2900-0393.

Type of Review: Reinstatement, with change, of a previously approved collection for which approval has expired.

Abstract: VA issues requests for quotations (RFQs) under procedures of the Federal Acquisition Regulation (FAR) part 13 and VAAR part 813 for the acquisition of goods and services necessary to operate the Department. In addition, VA requests information from vendors to establish blanket purchase agreements (BPAs). Any individual or business wishing to submit an offer on an RFQ or respond to a request to establish a BPA may do so. VA will use the information to determine which business or individual VA should issue a purchase order for the acquisition of goods or services or to determine which business or individual VA should establish a BPA. This collection of information covers only those acquisition-related actions conducted under the procedures of FAR part 13 and VAAR part 813 that affect 10 or more persons and are, therefore, subject to the PRA. Such actions include open market competitive acquisitions between $25,000 and $100,000 and, for commercial items, acquisitions between $100,000 and $5 million where simplified procedures are used.

An agency may not conduct or sponsor, and a person is not required to respond to a collection of information unless it displays a currently valid OMB control number. The Federal Register Notice with a 60-day comment period soliciting comments on this collection of information was published on August 24, 2001, at page 44667.

Affected Public: Business or other for profit, individuals or households, not-for-profit institutions and state, local or tribal government.

Estimated Annual Burden: 10,650.

Estimated Average Burden Per Respondent: 1 hour.

Frequency of Response: On occasion.

Estimated Number of Respondents: 10,650.

Send comments and recommendations concerning any aspect of the information collection to VA's OMB Desk Officer, OMB Human Resources and Housing Branch, New Executive Office Building, Room 10235, Washington, DC 20503 (202) 395-7316. Please refer to “OMB Control No. 2900-0393” in any correspondence.

Dated: November 6, 2001.
By direction of the Secretary:
Barbara H. Epps,
Management Analyst, Information Management Service.

[FR Doc. 01-29208 Filed 11-21-01; 8:45 am]

BILLING CODE 8320-01-P